DEPARTMENT OF TRANSPORTATION

Federal Transit Administration

Fiscal Year 2021 Competitive Funding Opportunity: Innovative Coordinated Access and Mobility (ICAM) Pilot Program

AGENCY: Federal Transit Administration (FTA), Department of Transportation (DOT).

ACTION: Notice of Funding Opportunity (NOFO).

SUMMARY: The Federal Transit Administration (FTA) announces the opportunity to apply for $3.5 million in Fiscal Year (FY) 2021 funds under the Innovative Coordinated Access and Mobility (ICAM) pilot program. This funding opportunity seeks to improve coordination to enhance access and mobility to vital community services for older adults, people with disabilities, and people of low income. As required by Federal public transportation law, funds will be awarded competitively as grants to finance innovative mobility management capital projects that will improve the coordination of transportation services and non-emergency medical transportation (NEMT) services. FTA may award additional funding that is made available to the program prior to the announcement of project selections.

DATES: Applicants must submit completed proposals for each funding opportunity through the GRANTS.GOV “APPLY” function by 11:59 p.m. Eastern Time December 6, 2021. Prospective applicants should register as soon as possible on the GRANTS.GOV website to ensure they can complete the application process before the submission deadline. Application instructions are available on FTA's website at https://www.transit.dot.gov/funding/grants/grant-programs/access-and-mobility-partnership-grants and in the “FIND” module of GRANTS.GOV. The GRANTS.GOV funding opportunity ID for the ICAM is FTA-2021-009-ICAM. Mail and fax submissions will not be accepted.

FOR FURTHER INFORMATION CONTACT: Destiny Buchanan, FTA Office of Program Management; Phone: (202) 493-8018; Email: Destiny.Buchanan@dot.gov.

SUPPLEMENTARY INFORMATION:

Table of Contents

A. Program Description

B. Federal Award Information

C. Eligibility Information

D. Application and Submission Information

E. Application Review Information

F. Federal Award Administration Information

G. Federal Awarding Agency Contact

H. Other Information

A. Program Description

Section 3006(b) of the Fixing America's Surface Transportation (FAST) Act (Pub. L. 114-94, Dec. 4, 2015), as extended for FY 2021 by Division B of the Continuing Appropriations Act, 2021 and Other Extensions Act (Pub. L. 116-159, Oct. 1, 2020), authorizes FTA to award grants for ICAM pilot projects that improve the coordination of transportation services and NEMT services projects for transportation disadvantaged populations. Transportation disadvantaged populations include older adults, people with disabilities, and people of low income. In the FY 2021 program, FTA intends to target funding for regional and statewide mobility management capital projects that support coordination and enable comprehensive community access, including access to NEMT, for underserved groups.

The Coordinating Council on Access and Mobility (CCAM) consists of eleven Federal agencies and coordinates 130 Federal programs that may fund transportation (find the CCAM Program Inventory at https://www.transit.dot.gov/regulations-and-guidance/ccam/about/ccam-program-inventory). The CCAM's mission is to improve the availability, accessibility, and efficiency of transportation for targeted populations. The benefits of successful coordinated transportation systems include providing greater access to funding and enabling more cost-effective use of resources; reducing duplication and overlap in human service agency transportation services; filling service gaps in a community or geographic area; serving additional individuals within existing budgets; and providing more centralized management of existing resources.

ICAM (Federal Assistance Listing 20.513) supports FTA's strategic goals and objectives through timely and efficient investment in public transportation. This program helps fulfill the President's commitment to mobilize American ingenuity to build a modern infrastructure and an equitable, clean energy future. In addition, this NOFO will advance the goals of the President's January 20, 2021 Executive Order 13985 on Advancing Racial Equity and Support for Underserved Communities Through the Federal Government.

The ICAM pilot program will improve State and regional coordination by funding regional and statewide mobility management capital projects that enable comprehensive community access, including NEMT, for underserved groups. Successful projects will prioritize coordination, including coordination with recipients of funding from Federal agencies that are members of the CCAM, that enhances access and mobility to vital community services for older adults, people with disabilities, and people of low income.

Successful applicants should coordinate to implement a multi-agency effort to improve access of human services transportation by establishing an oversight structure and increasing inter-agency coordination to adopt:

1. Consistent driver and vehicle standards;

2. Cost allocation rate(s) when clients of different programs use a single transportation service, (increasing efficiency by using the same vehicles to transport passengers whose trips are funded via different Federal programs);

3. Rate-setting methodology based on the cost allocation rate of providing transportation (allows costs to be billed or allocated appropriately to the transportation user, facilitating a more efficient use of transportation resources); and

4. Cost allocation technology (enables costs to be shared equitably among participating agencies who receive funding from a variety of Federal agencies).

Agencies often restrict their transportation services to clients of a specific program and do not permit the vehicles or services to be used by other programs or riders. This practice leads to inefficient use of resources and unused capacity. These restrictions are often attributed to Federal requirements, but compliance with Federal requirements can be achieved without such restrictions. Federally funded vehicles and transportation resources can be shared with other agencies that have a transportation role, as long as costs can be allocated appropriately. The ICAM pilot program seeks to help promote this coordination.

B. Federal Award Information

Federal public transportation law (49 U.S.C. 5338(a)(2)(E)), as extended by the Continuing Appropriations Act, 2021 and Other Extensions Act (Pub. L. 116-159), authorizes $3,500,000 in FY 2021 for competitive grants under the ICAM pilot program. FTA may cap the amount a single recipient or State may receive as part of the selection process. There is no minimum or maximum grant award amount; however, FTA intends to fund as many meritorious projects as possible. FTA may award additional funding made available to the program prior to the announcement of the project selections.

Due to funding limitations, projects selected for funding may receive less than the amount originally requested. In those cases, applicants must be able to demonstrate that the proposed projects are still viable, meet all eligibility requirements, and can be completed with the amount awarded.

The ICAM grants will operate as pilots for up to 24 months. Within the first year, projects must be able to demonstrate significant progress toward increased State interagency coordination. During the 24-month span of the project, ICAM mobility management capital funds may be used to implement a regional or statewide pilot of coordinated service delivery, to demonstrate the benefits of coordinated transportation.

C. Eligibility Information

Eligible Applicants

Eligible applicants are State departments of transportation, designated recipients for Section 5310 funds, or local governmental entities that operate a public transportation service, or their eligible subrecipients that have the authority and technical capacity to implement a regional or statewide cost allocation pilot.

Applicants must serve as the lead agency of a regional or statewide consortium that includes stakeholders from the transportation, healthcare, human service, or other sectors. Members of this consortium are eligible as subrecipients if they would otherwise be eligible subrecipients of Section 5310 funds. Further, applicants must demonstrate that the proposed project was planned through an inclusive process with the involvement of the transportation, healthcare, and human service sectors. An implementation plan and schedule must be submitted as part of the proposal.

Cost Sharing or Matching

The maximum Federal share of projects selected under the ICAM pilot program is 80 percent. The applicant must provide a non-Federal share of at least 20 percent of the project cost and must document the source of the local match in the grant application.

Eligible sources of local match include cash and in-kind contributions. In-kind contributions must be documented in the application.

Eligible Projects

Eligible projects are capital projects, as defined in 49 U.S.C. 5302(3). FTA may make grants to assist in financing innovative projects for the transportation disadvantaged that improve the coordination of transportation services and NEMT services, including: Regional or statewide mobility management projects; deployment of coordination technology; and regional or statewide projects that create or increase access to one-call/one-click centers. FTA's goal for these pilot program grants is to identify and test promising, innovative, coordinated mobility strategies other communities can replicate. Only one project may be included in each application.

D. Application and Submission Information

1. Address To Request Application Package

A complete proposal submission consists of two forms:

• SF-424 Application for Federal Assistance (downloaded from GRANTS.GOV): And

• Supplemental form for the FY 2021 Innovative Coordinated Access and Mobility Pilot Program (downloaded from GRANTS.GOV or the FTA website at https://www.transit.dot.gov/funding/grants/grant-programs/access-and-mobility-partnership-grants).

Applications must be submitted through GRANTS.GOV. Applicants can find general information for submitting applications through GRANTS.GOV. Mail and fax submissions will not be accepted. Applicants may also attach additional supporting information. Failure to submit the information as requested may delay or prevent review of the application.

2. Content and Form of Application Submission

i. Proposal Submission

A complete proposal submission consists of at least two forms, the SF-424 Mandatory Form and the Supplemental Form for the FY 2021 Innovative Coordinated Access and Mobility Pilot Program. The application must include responses to all sections of the SF-424 Mandatory Form and the Supplemental Form unless a section is indicated as optional. FTA will use the information on the Supplemental Form to determine applicant and project eligibility for the program and to evaluate the proposal against the selection criteria described in part E of this notice. FTA will accept only one Supplemental Form per SF-424 submission. FTA encourages States and other applicants to consider submitting a single Supplemental Form that includes multiple activities to be evaluated as a consolidated proposal. If States or other applicants choose to submit separate proposals for individual consideration by FTA, they must submit each proposal with a separate SF-424 and Supplemental Form.

Applicants may attach additional supporting information to the SF-424 submission, including, but not limited to the following examples: Letters of support, memorandums of understanding, interagency agreements, coordinated plans, project budgets, fleet status reports, or excerpts from relevant planning documents. Supporting documentation must be described and referenced by file name in the appropriate response section of the Supplemental Form, or it may not be reviewed.

Information such as applicant name, Federal amount requested, local match amount, or description of areas served, may be requested in varying degrees of detail on both the SF-424 Form and Supplemental Form. Applicants must fill in all fields unless stated otherwise on the forms. If applicants copy information into the Supplemental Form from another source, they should verify that the Supplemental Form has fully captured pasted text and that it has not truncated the text due to character limits built into the form. Applicants should use both the “Check Package for Errors” and the “Validate Form” buttons on both forms to check all required fields. Applicants should also ensure that the Federal and local amounts specified are consistent.

ii. Application Content

The SF-424 Mandatory Form and the Supplemental Form will prompt applicants for the required information, including:

a. Applicant Name

b. Dun and Bradstreet (D&B) Data Universal Numbering System (DUNS) number

c. Key contact information (including contact name, address, email address, and phone)

d. Congressional district(s) where project will take place

e. Project Information (including title, an executive summary, and type)

f. A detailed description of the project

g. A detailed description of the need for the project

h. A detailed description of how the project will support the ICAM pilot program goals to improve access to coordinated transportation services; reduce duplication of service; and enhance efficiency of the 130 Federal programs that may fund human service transportation.

i. Evidence that the project is consistent with State and regional planning documents including consistency with the Coordinated Public Transportation-Human Services Transportation Plan

j. A detailed description of all project partners and their specific role in the eligible project

k. Specific performance measures the project will use to quantify actual outcomes against expected outcomes

l. Evidence that the applicant can provide the non-Federal cost share and details on the non-Federal match

m. A description of the technical, legal, and financial capacity of the applicant

n. A detailed project budget (up to 24 months)

o. An explanation of the scalability of the project (if applicable)

p. A detailed project timeline

3. Unique Entity Identifier and System for Award Management (SAM)

Each applicant is required to: (1) Be registered in SAM before submitting an application; (2) provide a valid unique entity identifier in its application; and (3) continue to maintain an active SAM registration with current information during which the applicant has an active Federal award or an application or plan under consideration by FTA. FTA may not make an award until the applicant has complied with all applicable unique entity identifier and SAM requirements. If an applicant has not fully complied with the requirements by the time FTA is ready to make an award, FTA may determine that the applicant is not qualified to receive an award and use that determination as a basis for making a Federal award to another applicant. These requirements do not apply if the applicant has an exception approved by FTA under 2 CFR 25.110(c) or (d). SAM registration takes approximately 3-5 business days, but FTA recommends allowing ample time, up to several weeks, for completion of all steps. For additional information on obtaining a unique entity identifier, please visit https://www.sam.gov.

FTA will provide further instructions on registration through an introductory applicant training session. Dates and times for the training session will be posted on FTA's website.

4. Submission Dates and Times

Project proposals must be submitted electronically through GRANTS.GOV by 11:59 p.m. Eastern Time December 6, 2021. Late applications will not be accepted. Mail and fax submissions will not be accepted.

FTA urges applicants to submit applications at least 72 hours prior to the due date to allow time to correct any problems that may have caused either GRANTS.GOV or FTA systems to reject the submission. Deadlines will not be extended due to scheduled website maintenance. GRANTS.GOV scheduled maintenance and outage times are announced on the GRANTS.GOV website.

Within 48 hours after submitting an electronic application, the applicant should receive two email messages from GRANTS.GOV: (1) Confirmation of successful transmission to GRANTS.GOV; and (2) confirmation of successful validation by GRANTS.GOV. If the applicant does not receive confirmation of successful validation or receives a notice of failed validation or incomplete materials, the applicant must address the reason for the failed validation, as described in the email notice, and resubmit before the submission deadline. If making a resubmission for any reason, applicants must include all original attachments regardless of which attachments were updated and check the box on the Supplemental Form indicating this is a resubmission.

Applicants are encouraged to begin the process of registration on the GRANTS.GOV site well in advance of the submission deadline. Registration is a multi-step process, which may take several weeks to complete before an application can be submitted. Registered applicants may still be required to update their registration before submitting an application. Registration in SAM is renewed annually and persons making submissions on behalf of the Authorized Organization Representative (AOR) must be authorized in GRANTS.GOV by the AOR to make submissions.

5. Funding Restrictions

Funds made available under the ICAM pilot program may only be used for capital expenditures, including mobility management, that are included in the State Transportation Improvement Plan/Transportation Improvement Plan. Eligible projects are capital projects, as defined in 49 U.S.C. 5302(3). Allowable direct and indirect expenses must be consistent with the Government-wide Uniform Administrative Requirements and Cost Principles (2 CFR part 200) and FTA Circular 5010.1E.

Funds awarded under this notice cannot be used to reimburse recipients for expenses incurred prior to FTA issuing pre-award authority. FTA intends to issue pre-award authority pursuant to 2 CFR 200.458 to incur costs for selected projects beginning on the date FTA announces recipients of the FY 2021 awards on FTA's website. Funds are only available for projects that have not incurred costs prior to the announcement of project selections on FTA's website and the corresponding issuance of pre-award authority.

6. Other Submission Requirements

FTA encourages applicants to identify scaled funding options in the event that insufficient funding is available to fund a project at the fully requested amount. If an applicant indicates that a project is scalable, the applicant must provide an appropriate minimum funding amount that will fund an eligible project that achieves the objectives of the program and meets all relevant program requirements. The applicant must provide a clear explanation of how a reduced award would affect the project. FTA may award a lesser amount regardless of whether the applicant provides a scalable option.

E. Application Review Information

1. Criteria

FTA will evaluate proposals submitted according to the following criteria: (a) Demonstration of need; (b) demonstration of benefits; (c) planning and partnerships; (d) local financial commitment; (e) project readiness; and (f) technical, legal, and financial capacity. Each applicant is encouraged to provide a succinct, logical, and orderly response to all criteria referenced in this NOFO. Additional information may be provided to support the responses; however, any additional documentation must be directly referenced on the Supplemental Form, including the file name where the additional information can be found.

a. Demonstration of Need

FTA will evaluate proposals based on how the proposed project will address the need for regional or statewide mobility management capital projects that enable comprehensive community access, including NEMT access, for underserved groups. FTA will consider the scope of the overall need or challenge as described.

b. Demonstration of Benefits

FTA will evaluate proposals on the benefits provided by the proposed project. Benefits will be tied to the ICAM pilot program goals and objectives:

Goals:

(1) Improve access to coordinated transportation services;

(2) Reduce duplication of service; and

(3) Enhance efficiency of the 130 Federal programs that may fund human service transportation.

Objectives:

(1) Develop an inter-agency transportation coordinating work group at the regional or state-level;

(2) The adoption of:

a. Consistent driver and vehicle standards,

b. Cost allocation rate(s) when clients of different programs use a single transportation service, (increasing efficiency by using the same vehicles to transport passengers whose trips are funded via different Federal programs),

c. Rate-setting methodology based on the cost allocation rate of providing transportation (allows costs to be billed or allocated appropriately to the transportation user, facilitating a more efficient use of transportation resources), and

d. Cost allocation technology (enables costs to be shared equitably among participating agencies who receive funding from a variety of Federal agencies); and

(3) Implementation of a regional or statewide pilot of coordinated service delivery to demonstrate the benefits of coordinated transportation.

Projects will be evaluated on the ability of the proposed project to yield data demonstrating impacts on the goals of the ICAM pilot program. Projects shall include a description of how the eligible project would improve access to coordinated transportation services, reduce duplication of service, and provide innovative solutions in the region or State and include specific performance measures the eligible project will use to quantify actual outcomes against expected outcomes.

Proposals must show that the applicant will be able to provide impact data during and after the pilot project. FTA will require each successful applicant to develop projected outcomes and project performance measures. FTA requires each successful applicant to report progress toward meeting project objectives on a quarterly basis. FTA will use this data to produce the required Annual Report to Congress that contains a detailed description of the activities carried out under the pilot program, and an evaluation of the program, including an evaluation of the performance measures described.

c. Planning and Partnerships

Applicants must describe the eligible project and identify project partners and their specific role in the project. Successful projects will work collaboratively and leverage partnerships with agencies that are funding recipients of the Federal agencies that are members of the CCAM, such as the Department of Health and Human Services' Administration for Community Living, Health Resources and Services Administration, and the Centers for Medicare and Medicaid Services. A full list of CCAM agencies may be accessed by going to https://www.transit.dot.gov/ccam/about/agencies. Partners also may include transportation providers as well as private and nonprofit entities involved in the coordination of NEMT for the transportation disadvantaged. Applicants should provide evidence of strong commitment from key partners, including memoranda of agreement or letters of support from relevant State agency stakeholders and partner organizations. Any changes to the proposed partnerships will require FTA's advance approval and must be consistent with the scope of the approved project. Projects may be derived from a locally developed, coordinated public transit-human services transportation plan.

d. Local Financial Commitment

Applicants must identify the source of the local share and describe whether such funds are currently available for the project or will need to be secured if the project is selected for funding. FTA will consider the availability of the local share as evidence of local financial commitment to the project.

e. Project Readiness

FTA will evaluate the project on the proposed schedule and the applicant's demonstrated ability to implement it. Applicants should indicate the short-term, mid-term, and long-term goals for the project. Proposals must provide specific performance measures the eligible project will use to quantify actual outcomes against expected outcomes. FTA will evaluate the project based on the extent to which it was developed inclusively, incorporating meaningful involvement from key stakeholders including consumer representatives of the target groups and providers from the healthcare, transportation, and human services sectors, among others. The applicant must show significant, ongoing involvement of the project's target population.

f. Technical, Legal and Financial Capacity

FTA will evaluate proposals on the capacity of the lead agency and any partners to successfully execute the pilot effort. The lead agency must have the authority and technical capacity to implement a regional or statewide cost allocation pilot project. The applicant should have no outstanding legal, technical, or financial issues that would make this a high-risk project. FTA will evaluate each proposal (including the business plan, financial projections, and other relevant data) for feasibility and longer-term sustainability of both the pilot project as well as the proposed project at full deployment. FTA intends to select projects with a high likelihood of long-term success and sustainability.

2. Review and Selection Process

Technical evaluation committees made up of Federal staff will evaluate proposals based on the published evaluation criteria. After applying the above criteria, FTA will give priority consideration to projects that support the Government-wide Justice 40 Initiative with the goal of delivering 40 percent of the overall benefits of relevant federal investments to disadvantaged communities. For the purposes of the Justice 40 Initiative, a community is either a group of individuals living in geographic proximity to one another, or a geographically dispersed set of individuals (such as migrant workers or Native Americans), where either type of group experiences common conditions. Furthermore to determine whether a specific community is disadvantaged, an applicant should consider, but are not limited to, the following variables: Low income, high and/or persistent poverty; High unemployment and underemployment, Racial and ethnic segregation; Linguistic isolation; High housing cost burden and substandard housing; Distressed neighborhoods; High transportation cost burden and/or low transportation access; Transit dependency associated with income, disability, or lack of access to a private automobile; Disproportionate environmental burden and high cumulative impacts; Limited water and sanitation access and affordability; Disproportionate climate impacts; and High energy cost burden and low energy access. FTA will give priority consideration to applications that have considered racial equity in the planning stage and are designed with specific elements to address racial equity and overcoming barriers to opportunity for underserved communities, in support of Executive Order 13985, Advancing Racial Equity and Support for Underserved Communities Through the Federal Government. Applicants should indicate which (if any) planning and policies related to racial equity and barriers to opportunity they are implementing or have implemented, along with the specific project investment details necessary for FTA to evaluate if the investments are being made either to proactively advance racial equity and remove barriers to opportunity, or to redress prior inequities and barriers to opportunity. All project investment costs for the project that are related to advancing racial equity and addressing barriers to opportunity should be summarized.

If an applicant is proposing to implement autonomous vehicles or other innovative motor vehicle technology, the application should demonstrate that all vehicles will comply with applicable safety requirements, including those administered by the National Highway Traffic Safety Administration (NHTSA) and Federal Motor Carrier Safety Administration (FMCSA). Specifically, the application should show that vehicles acquired for the proposed project will comply with applicable Federal Motor Vehicle Safety Standards (FMVSS) and Federal Motor Carrier Safety Regulations (FMCSR). If the vehicles may not comply, the application should either (1) show that the vehicles and their proposed operations are within the scope of an exemption or waiver that has already been granted by NHTSA, FMCSA, or both agencies or (2) directly address whether the project will require exemptions or waivers from the FMVSS, FMCSR, or any other regulation and, if the project will require exemptions or waivers, present a plan for obtaining them. If applicable, FTA will also consider the extent to which the application presents a plan to address workforce impacts of autonomous vehicles or other innovative motor vehicle technology.

Prior to making an award, FTA is required to review and consider any information about the applicant that is in the Federal Awardee Performance and Integrity Information Systems (FAPIIS) accessible through SAM. An applicant may review and comment on information about itself that a Federal awarding agency previously entered. FTA will consider any comments by the applicant, in addition to the other information in FAPIIS, in making a judgment about the applicant's integrity, business ethics, and record of performance under Federal awards when completing the review of risk posed by applicants as described in 2 CFR 200.206, Federal Awarding Agency Review of Risk Posed by Applicants. In determining the allocation of program funds, FTA may also consider geographic diversity, diversity in the size of the transit systems receiving funding, and the applicant's receipt of other competitive awards.

F. Federal Award Administration Information

Federal Award Notices

FTA will announce the final project selections on the FTA website. Project recipients should contact their FTA Regional Office for additional information regarding allocations for projects under each program.

Administrative and National Policy Requirements

i. Pre-Award Authority

FTA will issue specific guidance to recipients regarding pre-award authority at the time of selection. FTA does not provide pre-award authority for competitive funds until projects are selected and announced on FTA's website, and there are Federal requirements that must be met before costs are incurred. For more information about FTA's policy on pre-award authority, please see the most recent Apportionment Notice at https://www.transit.dot.gov.

ii. Grant Requirements

Selected applicants will submit a grant application through FTA's Transit Award Management System (TrAMS) and adhere to FTA grant requirements. All competitive grants will be subject to the congressional notification and release process. All ICAM awards are subject to the requirements of the Formula Grants for the Enhanced Mobility of Seniors and Individuals with Disabilities (49 U.S.C. 5310), including those of FTA Circular “Enhanced Mobility of Seniors and Individuals with Disabilities Program Guidance and Application Instructions” (FTA.C.9070.1). All recipients must accept the FTA Master Agreement and follow the Award Management Requirements (FTA.C.5010.1E) and the labor protections required by Federal public transportation law (49 U.S.C. 5333(b)). Technical assistance regarding these requirements is available from each FTA regional office.

iii. Buy America

All capital procurements must comply with FTA's Buy America requirements (49 U.S.C. 5323(j)), which require that all iron, steel, and manufactured products be produced in the United States, and imposes minimum domestic content and final assembly requirements for rolling stock. The cost of components and subcomponents produced in the United States must be more than 70 percent of the cost of all components, and final assembly of rolling stock must occur in the United States. Any proposal that will require a waiver must identify the items for which a waiver will be sought in the application. Applicants should not proceed with the expectation that waivers will be granted.

iv. Disadvantaged Business Enterprise

To be eligible to bid on any FTA-assisted vehicle procurement, entities that manufacture transit vehicles or perform post-production alterations or retrofitting must be certified Transit Vehicle Manufacturers (TVM). If a vehicle remanufacturer is responding to a solicitation for new or remanufactured vehicles with a vehicle to which the remanufacturer has provided post-production alterations or retro-fitting (e.g., replacing major components such as engine to provide a “like new” vehicle), the vehicle remanufacturer must be a certified TVM.

iv. Planning

FTA encourages applicants to engage the appropriate State departments of transportation, Regional Transportation Planning Organizations, or Metropolitan Planning Organizations in areas to be served by the project funds available under these programs.

v. Standard Assurances

If it receives an award, the applicant must assure that it will comply with all applicable Federal statutes, regulations, Executive Orders, FTA Circulars, and other Federal administrative requirements in carrying out any project supported by the FTA grant. The applicant acknowledges that it will be under a continuing obligation to comply with the terms and conditions of the grant agreement issued for its project with FTA. The applicant understands that Federal laws, regulations, policies, and administrative practices might be modified from time to time and may affect the implementation of the project. The applicant agrees that the most recent Federal requirements will apply to the project unless FTA issues a written determination otherwise. The applicant must submit the Certifications and Assurances before receiving a grant if it does not have current certifications on file.

vi. Reporting

Post-award reporting requirements include submission of Federal Financial Reports and Milestone Progress Reports in FTA's electronic grants management system. An independent evaluation of the pilot program may occur at various points in the deployment process and at the end of the pilot project. In addition, FTA is responsible for producing an Annual Report to Congress that compiles evaluations of selected projects, including an evaluation of the performance measures identified by the applicants. All applicants must develop an evaluation plan to measure the success or failure of their projects and to describe any plans for broad-based implementation of successful projects. Applicants should also include any goals, targets, and indicators referenced in their application to the project in the Executive Summary of the TrAMS application. FTA may request data and reports to support the independent evaluation and annual report.

As part of completing the annual certifications and assurances required of FTA grant recipients, a successful applicant must report on the suspension or debarment status of itself and its principals.

If the award recipient's active grants, cooperative agreements, and procurement contracts from all Federal awarding agencies exceeds $10,000,000 for any period of time during the period of performance of an award made pursuant to this Notice, the recipient must comply with the Recipient Integrity and Performance Matters reporting requirements described in Appendix XII to 2 CFR part 200.

G. Federal Awarding Agency Contact

For questions about applying to the pilot program outlined in this notice, please contact the FTA Program Manager, Destiny Buchanan, phone: (202) 493-8018, or email, Destiny.Buchanan@dot.gov. A TDD is available at 1-800-877-8339 (TDDFIRS). Additionally, you may visit FTA's website for this program at https://www.transit.dot.gov/funding/grants/grant-programs/access-and-mobility-partnership-grants.

To ensure that applicants receive accurate information about eligibility or the program, applicants are encouraged to contact FTA directly with questions, rather than through intermediaries or third parties. FTA staff also may conduct briefings on the FY 2021 competitive grants selection and award process upon request. Contact information for FTA's regional offices can be found on FTA's website at http://www.transit.dot.gov/.

H. Other Information

This program is not subject to Executive Order 12372, “Intergovernmental Review of Federal Programs.”

Nuria I. Fernandez,
Administrator.

[FR Doc. 2021-21969 Filed 10-6-21; 8:45 am]

BILLING CODE 4910-57-P